DEPARTMENT OF ENERGY

Federal Energy Regulatory Commission

Combined Notice of Filings #1

Take notice that the Commission received the following electric corporate filings:

Docket Numbers: EC24-50-000.

Applicants: GC PGR Holdco, LLC, PGR Holdco, LLC, Healthcare of Ontario Pension Plan Trust Fund.

Description: Application for Authorization Under Section 203 of the Federal Power Act of PGR Holdco, LLC.

Filed Date: 2/9/24.

Accession Number: 20240209-5226.

Comment Date: 5 p.m. ET 3/1/24.

Take notice that the Commission received the following electric rate filings:

Docket Numbers: ER10-1818-029.

Applicants: Public Service Company of Colorado.

Description: Amendment to March 11, 2023 Triennial Market Power Analysis for Southwest Region of Public Service Company of Colorado.

Filed Date: 2/9/24.

Accession Number: 20240209-5222.

Comment Date: 5 p.m. ET 3/1/24.

Docket Numbers: ER22-2185-001.

Applicants: Black Hills Colorado Electric, LLC.

Description: Refund Report: Refund Report to be effective N/A.

Filed Date: 2/12/24.

Accession Number: 20240212-5132.

Comment Date: 5 p.m. ET 3/4/24.

Docket Numbers: ER24-1191-001.

Applicants: Midcontinent Independent System Operator, Inc.

Description: Tariff Amendment: 2024-02-12_Amendment to Forced-Off Assets Filing to be effective 6/3/2024.

Filed Date: 2/12/24.

Accession Number: 20240212-5097.

Comment Date: 5 p.m. ET 3/4/24.

Docket Numbers: ER24-1230-000.

Applicants: Duke Energy Florida, LLC.

Description: Tariff Amendment: DEF-SEPA—Notice of Cancellation RS No. 65 to be effective 4/20/2024.

Filed Date: 2/9/24.

Accession Number: 20240209-5197.

Comment Date: 5 p.m. ET 3/1/24.

Docket Numbers: ER24-1231-000.

Applicants: Wythe County Solar Project, LLC.

Description: Baseline eTariff Filing: Market Based Rate to be effective 4/12/2024.

Filed Date: 2/12/24.

Accession Number: 20240212-5041.

Comment Date: 5 p.m. ET 3/4/24.

Docket Numbers: ER24-1231-001.

Applicants: Wythe County Solar Project, LLC.

Description: Tariff Amendment: Market Based Rate to be effective 4/12/2024.

Filed Date: 2/12/24.

Accession Number: 20240212-5050.

Comment Date: 5 p.m. ET 3/4/24.

Docket Numbers: ER24-1232-000.

Applicants: Midcontinent Independent System Operator, Inc., Consumers Energy Company, Michigan Electric Transmission Company, LLC.

Description: § 205(d) Rate Filing: Midcontinent Independent System Operator, Inc. submits tariff filing per 35.13(a)(2)(iii: 2024-02-12_SA 1926 METC-CE 10th Rev DTIA to be effective 2/1/2024.

Filed Date: 2/12/24.

Accession Number: 20240212-5058.

Comment Date: 5 p.m. ET 3/4/24.

Docket Numbers: ER24-1233-000.

Applicants: Southwest Power Pool, Inc.

Description: § 205(d) Rate Filing: Substitute Original 4089 Sholes Wind II GIA to be effective 6/14/2023.

Filed Date: 2/12/24.

Accession Number: 20240212-5061.

Comment Date: 5 p.m. ET 3/4/24.

Docket Numbers: ER24-1234-000.

Applicants: NorthWestern Corporation.

Description: § 205(d) Rate Filing: RS 27—Third Amended and Restated AMPS Agreement to be effective 1/12/2024.

Filed Date: 2/12/24.

Accession Number: 20240212-5063.

Comment Date: 5 p.m. ET 3/4/24.

Docket Numbers: ER24-1235-000.

Applicants: Public Service Company of Colorado.

Description: § 205(d) Rate Filing: 2024-02-12 Holy Cross DWA—Crystal Substation—698 to be effective 2/13/2024.

Filed Date: 2/12/24.

Accession Number: 20240212-5107.

Comment Date: 5 p.m. ET 3/4/24.

Docket Numbers: ER24-1236-000.

Applicants: Public Service Company of Colorado.

Description: § 205(d) Rate Filing: 2024-02-12 Holy Cross DWA—Parachute Substation—697 to be effective 2/13/2024.

Filed Date: 2/12/24.

Accession Number: 20240212-5109.

Comment Date: 5 p.m. ET 3/4/24.

Docket Numbers: ER24-1237-000.

Applicants: Public Service Company of Colorado.

Description: § 205(d) Rate Filing: 2024-02-12 Holy Cross DWA—Rifle Substation—696 to be effective 2/13/2024.

Filed Date: 2/12/24.

Accession Number: 20240212-5110.

Comment Date: 5 p.m. ET 3/4/24.

Docket Numbers: ER24-1238-000.

Applicants: ISO New England Inc., NSTAR Electric Company.

Description: § 205(d) Rate Filing: ISO New England Inc. submits tariff filing per 35.13(a)(2)(iii: ISO-NE/NSTAR; Original Service Agreement No. LGIA-ISONE/NSTAR-23-04 to be effective 1/10/2024.

Filed Date: 2/12/24.

Accession Number: 20240212-5135.

Comment Date: 5 p.m. ET 3/4/24.

Docket Numbers: ER24-1239-000.

Applicants: Stanton Clean Energy, LLC.

Description: Baseline eTariff Filing: Stanton Cost-Based Power Purchase Agreement with OUC to be effective 4/1/2024.

Filed Date: 2/12/24.

Accession Number: 20240212-5141.

Comment Date: 5 p.m. ET 3/4/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 12, 2024.
Debbie-Anne A. Reese,
Acting Secretary.

[FR Doc. 2024-03319 Filed 2-15-24; 8:45 am]

BILLING CODE 6717-01-P